DEPARTMENT OF THE INTERIOR

National Park Service

[NPS-WASO-NRNHL-DTS#-31320; PPWOCRADI0, PCU00RP14.R50000]

National Register of Historic Places; Notification of Pending Nominations and Related Actions

AGENCY: National Park Service, Interior.

ACTION: Notice.

SUMMARY: The National Park Service is soliciting electronic comments on the significance of properties nominated before December 19, 2020, for listing or related actions in the National Register of Historic Places.

DATES: Comments should be submitted electronically by January 21, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before December 19, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Pima County

Viewpoint, 2840 North Sunrock Ln., Tucson, SG100006082

CALIFORNIA

Alameda County

Oakland Auditorium, 10 10th St., Oakland, SG100006085

Los Angeles County

King Edward Hotel, 117-131 East 5th St., 455 South Los Angeles St., Los Angeles, SG100006086

San Francisco County

Buon Gusto Sausage Factory, 535 Green St., San Francisco, SG100006073

Solano County

Benicia City Cemetery, Bounded by Riverhill Dr., Riverview Terr., Shirley Dr., and Incline Pl., Benicia City, SG100006087

DELAWARE

New Castle County

St. Nicholas Ukrainian Catholic Church, 610 South Heald St., Wilmington, SG100006071

KANSAS

Rawlins County

Sappa Creek Massacre Site, Address Restricted, Atwood vicinity, SG100006060

MASSACHUSETTS

Suffolk County

Elm Hill Park Historic District, 2-38 Elm Hill Park, 538-570 Warren St., Boston, SG100006078

Worcester County

Leominster High School, 261 West St., Leominster, SG100006083

MISSOURI

Cole County

Giesecke-D'Oench-Hays Shoe Factory, 1101 East Capitol Ave., Jefferson City, SG100006079

Jackson County

Archbishop O'Hara High School, 9001 James A. Reed Rd., Kansas City, SG100006074

Hazelle, Inc. Building, 1224 Admiral Blvd., Kansas City, SG100006075

Oakwood Country Club, 9800 Grandview Rd., Kansas City, SG100006076

Jefferson County

Waggener Dairy Barn, 1700 Boyce Ln., Festus vicinity, SG100006081

Moniteau County

Harrison School, 235 East Howard St., Tipton, SG100006080

OHIO

Cuyahoga County

Erieview Historic District, Roughly bounded by Lakeside Ave., Chester Ave., East 9th St., and East 12th St., Cleveland, SG100006084

SOUTH DAKOTA

Codington County

Watertown Commercial Historic District (Boundary Decrease), Roughly bounded by 1st St. West, 3rd St. East, 1st Ave. North, 2nd Ave. South, Watertown, BC100006064

Roberts County

Nigg, Louis, Barn, 46356 125th St., Sisseton, SG100006065

TEXAS

Tarrant County

Pioneers Rest Cemetery, 600 Samuels Ave., Fort Worth, SG100006072

UTAH

San Juan County

Navajo Mountain Day School and Community Center Historic District, 300 yds. west of jct. of Cty. Rds. 434 and 488, Navajo Mountain, SG100006063

WASHINGTON

Jefferson County

Christian Congregation Church of Port Ludlow, 11 Werner Rd., Port Ludlow, SG100006061

King County

Millionaire's Row Historic District, 626-1021 14th Ave. East, 1409 East Aloha St., and 1409 East Prospect St., Seattle, SG100006062

Ballast Island, At the foot of South Washington and South Main Sts., along the waterfront. Seattle, SG100006067

Fir Lodge, 2717 61st Ave. SW, Seattle, SG100006070

Spokane County

Dodson Building, 218-220 North Bernard St., Spokane, SG100006068

Additional documentation has been received for the following resources:

ARIZONA

Pima County

Catalina Vista Historic District (Additional Documentation), Bounded by Grant Rd., Tucson Blvd., Elm St., and Campbell Ave., Tucson, AD03000317

SOUTH DAKOTA

Brookings County

Brookings Commercial Historic District (Additional Documentation), Roughly along Main Ave. between the C&NW RR and the alley North Fifth St., Brookings, AD88000029

(Authority: Section 60.13 of 36 CFR part 60)

Dated: December 23, 2020.
Julie H. Ernstein,
Acting Chief, National Register of Historic Places/National Historic Landmarks Program.

[FR Doc. 2020-29142 Filed 1-4-21; 8:45 am]

BILLING CODE 4312-52-P